DEPARTMENT OF DEFENSE

Department of the Navy

Notice of Availability of Invention for Licensing; Government-Owned Invention

AGENCY: Department of the Navy, DOD.

ACTION: Notice.

SUMMARY: The inventions listed below are assigned to the United States Government as represented by the Secretary of the Navy and are available for licensing by the Department of the Navy.

U.S. Patent Application Serial No. 09/566,237 entitled “Low Drive Voltage LiNbO3 Intensity Modulator With Reduced Electrode Loss” (Navy Case No. 79,893).

U.S. Patent Application Serial No. 09/566,238 entitled “Low Loss Coplanar Waveguide Horn For Low Drive Voltage LiNbO3 Modulators” (Navy Case No. 79,925).

ADDRESSES: Requests for copies of the patent applications cited should be directed to the Naval Research Laboratory, Code 1008.2, 4555 Overlook Avenue, SW, Washington, DC 20375-5320, and must include the Navy Case number.

FOR FURTHER INFORMATION CONTACT: Catherine M. Cotell, Ph.D., Head, Technology Transfer Office, NRL Code 1004, 4555 Overlook Avenue, SW, Washington, DC 20375-5320, telephone (202) 767-7230.

(Authority: 35 U.S.C. 207, 37 CFR Part 404)

Dated: September 5, 2000.
J.L. Roth,
Lieutenant Commander, Judge Advocate General's Corps, U.S. Navy, Federal Register Liaison Officer.

[FR Doc. 00-23705 Filed 9-14-00; 8:45 am]

BILLING CODE 3810-FF-P